INTERNATIONAL TRADE COMMISSION

[Investigation Nos. 701-TA-451 and 731-TA-1126-1127 (Final)]

Certain Lightweight Thermal Paper from China and Germany; Determinations

On the basis of the record ¹ developed in the subject investigations, the United States International Trade Commission (Commission) determines, pursuant to sections 705(b) and 735(b) of the Tariff Act of 1930 (19 U.S.C. 1671d(b) and 1673d(b)) (the Act), that an industry in the United States is threatened with material injury by reason of imports from China of certain lightweight thermal paper, which may be classified in subheadings 4811.90.80, 4811.90.90, 3703.10.60, 4811.59.20, 4820.10.20, and 4823.40.00 of the Harmonized Tariff Schedule of the United States, that have been found by the Department of Commerce (Commerce) to be sold in the United States at less than fair value (LTFV) and to be subsidized by the Government of China. The Commission further determines, pursuant to section 735(b) of the Act, that an industry in the United States is threatened with material injury by reason of imports from Germany of certain lightweight thermal paper that have been found by Commerce to be sold in the United States at LTFV.² In addition, the Commission determines that it would not have found material injury but for the suspension of liquidation.

¹ The record is defined in sec. 207.2(f) of the Commission's Rules of Practice and Procedure (19 CFR 207.2(f)).

² Chairman Shara L. Aranoff, Vice Chairman Daniel R. Pearson, and Commissioner Deanna Tanner Okun dissenting with regard to imports from Germany.

Background

The Commission instituted these investigations effective September 19, 2007, following receipt of a petition filed with the Commission and Commerce by Appleton Papers, Inc., Appleton, WI. The final phase of these investigations was scheduled by the Commission following notification of preliminary determinations by Commerce that imports of certain lightweight thermal paper from China and Germany were being sold at LTFV within the meaning of section 733(b) of the Act (19 U.S.C. 1673b(b)) and that imports of certain lightweight thermal paper from China were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of June 16, 2008 (73 FR 34038). The hearing was held in Washington, DC, on October 2, 2008, and all persons who requested the opportunity were permitted to appear in person or by counsel.

The Commission transmitted its determinations in these investigations to the Secretary of Commerce on November 17, 2008. The views of the Commission are contained in USITC Publication 4043 (November 2008), entitled Certain Lightweight Thermal Paper from China and Germany: Investigation Nos. 701-TA-451 and 731-TA-1126-1127 (Final).

By order of the Commission.
Issued: November 17, 2008.
William R. Bishop,
Acting Secretary to the Commission.

[FR Doc. E8-27626 Filed 11-19-08; 8:45 am]

BILLING CODE 7020-02-P